INTERNATIONAL TRADE COMMISSION

[Investigation Nos. 701-TA-582 and 731-TA-1377 (Review)]

Ripe Olives From Spain; Withdrawal of Determinations

SUMMARY: On July 31, 2024, the Commission published a Federal Register notice of determinations for ripe olives from Spain. The notice is hereby withdrawn.

DATES: The document published at 89 FR 61497 on July 31, 2024 is withdrawn as of August 5, 2024.

By order of the Commission.
Issued: August 6, 2024.
Sharon Bellamy,
Supervisory Hearings and Information Officer.

[FR Doc. 2024-17712 Filed 8-8-24; 8:45 am]

BILLING CODE 7020-02-P